DEPARTMENT OF HEALTH AND HUMAN SERVICES

Administration for Community Living

Delegation of Authority

Notice is hereby given that I have delegated to the Administrator, Administration for Community Living (ACL), the authority vested in the Secretary to execute the competitive grant program under Section 1110 of the Social Security Act, 42 U.S.C. 1310, as appropriate. This authority may be re-delegated.

This delegation does not supersede previous delegations of the authority contained herein, including the delegation to the Administrator, Centers for Medicare & Medicaid Services, “Delegation of Authority Under Title XI of the Social Security Act, as Amended,” dated March 4, 2011.

This delegation excludes the authority to issue regulations, to establish advisory committees and councils and appoint their members, and to submit reports to Congress and shall be exercised in accordance with the Department's applicable policies, procedures, and guidelines. I hereby affirm and ratify any actions taken by the Administrator, or his or her subordinates, involving the exercise of these authorities prior to the effective date of this delegation. This delegation is effective upon date of signature.

Dated: October 3, 2012.
Kathleen Sebelius,
Secretary.

[FR Doc. 2012-25013 Filed 10-10-12; 8:45 am]

BILLING CODE P